DEPARTMENT OF THE INTERIOR

National Park Service

National Register of Historic Places; Notification of Pending Nominations and Related Actions

Nominations for the following properties being considered for listing or related actions in the National Register were received by the National Park Service before August 29, 2009. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by September 29, 2009.

J. Paul Loether,
Chief, National Register of Historic Places/National Historic Landmarks Program.

ARKANSAS

Faulkner County

Hardy Cemetery, 722 AR 225 E., Centerville, 09000798

Washington County

Stokenbury Cemetery, AR 16, Elkins, 09000799

Taylor-Swanson-Gifford House, 930 S. California Blvd., Fayetteville, 09000800

Woodruff County

Morris, Dr. John William, Clinic, 118 W. Main St., McCrory, 09000801

CALIFORNIA

Los Angeles County

Stevens House, 23524 Malibu Colony Rd., Malibu, 09000802

Nevada County

Commercial Row—Brickelltown Historic District, Roughly the N. side of Donner Pass Rd. from Bridge St. westwards approx. 1,700 ft., Truckee, 09000803

San Bernardino County

Shady Point, 778 Shelter Cove Dr., Lake Arrowhead, 09000804

San Francisco County

Roos House, 3500 Jackson St., San Francisco, 09000805

Tobin House, 1969 California St., San Francisco, 09000806

Tuolumne County

Sonora Youth Center, 732 S. Barretta St., Sonora, 09000807

FLORIDA

Orange County

Warlow, Thomas Picton, Sr., House, 701 Driver Ave., Winter Park, 09000808

KANSAS

Leavenworth County

Helmers Manufacturing Company Building, 300 Santa Fe St./2500 2nd St., Leavenworth, 09000809

Republic County

Cuba Blacksmith Shop, ½ block W. of Baird St. on the Lynn St., Cuba, 09000810

Sedgwick County

Wichita High School, (Public Schools of Kansas MPS) 324 N. Emporia, Wichita, 09000811

MISSOURI

Greene County

Pythian Home of Missouri, 1451 E. Pythian St., Springfield, 09000812

Jefferson County

Central Campus, 221 S. 3rd. St., De Soto, 09000813

Madison County

Fredericktown United States Post Office, 155 S. Main St., Fredericktown, 09000814

MONTANA

Petroleum County

Winnett Block, 301 E. Main St., Winnett, 09000815

NEW HAMPSHIRE

Rockingham County

Portsmouth Harbor Light, (Light Stations of the United States MPS) .3 mi. E. of Rt. 1B jct. with Wentworth Rd., Ft. Constitution SE corner, New Castle, 09000816

NEW MEXICO

Cibola County

Acoma Curio Shop, (Route 66 through New Mexico MPS) 1090 NM 124, San Fidel, 09000817

SOUTH CAROLINA

Pickens County

Easley Mill, 601 S. 5th St., Easley, 09000818

Richland County

Benson, Florence C., Elementary School, (Segregation in Columbia, South Carolina MPS) 226 Bull St., Columbia, 09000819

WISCONSIN

Kenosha County

WISCONSIN shipwreck (iron steamer), (Great Lakes Shipwreck Sites of Wisconsin MPS) Address Restricted, Kenosha, 09000820

Oneida County

Sutliff, Solon and Mathilda, House, 306 Dahl St., Rhinelander, 09000821

Request for REMOVAL has been made for the following resources:

ARKANSAS

Benton County

Springfield to Fayetteville Rd—Brightwater Segment (Cherokee Trail of Tears MPS) N Old Wire Rd./Benton Cty Rd. 67, S of US 62 Brightwater, 04001513

Prairie County

Barrett-Rogers Building 100 N. Hazen Ave. Hazen, 98000881

Sebastian County

Sebastian County Road 5G Bridge (Historic Bridges of Arkansas MPS) Co. Rd. 5G over tributary of W. Cr. Hartford, 95000567

Washington County

Dodson Memorial Building (Public Schools in the Ozarks MPS) Jct. Of Pleasant St. And Emma Ave., NE corner Springdale, 92001118

KANSAS

Jackson County

Shedd and Marshall Store 3rd and Whiting Sts. Whiting, 77000582

[FR Doc. E9-21968 Filed 9-11-09; 8:45 am]

BILLING CODE P